DEPARTMENT OF HEALTH AND HUMAN SERVICES

Centers for Disease Control and Prevention

[30Day-13-12OG]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7570 or send an email to omb@cdc.gov. Send written comments to CDC Desk Officer, Office of Management and Budget, Washington, DC 20503 or by fax to (202) 395-5806. Written comments should be received within 30 days of this notice.

Proposed Project

Science to Practice: Developing and Testing a Marketing Strategy for Preventing Alcohol-related Problems in College Communities—NEW—National Center for Injury Prevention and Control (NCIPC), Centers for Disease Control and Prevention (CDC).

Background and Brief Description

Each year, 1,700 college students die and more than 1.4 million are injured as a result of alcohol-related incidents. Additionally, about 25% of students report negative academic consequences due to alcohol. Despite the enormous public health burden of college-age alcohol misuse, there have been few rigorous evaluations of environmental strategies to address alcohol misuse in college settings. Environmental strategies typically involve implementing and enforcing policies that change the environments that influence alcohol-related behavior and subsequent harm. Further, studies show that the typical lag time between identifying effective interventions and obtaining widespread adoption can stretch to well over a decade. Given the number of students harmed, there is an urgent need to develop more efficient and timely strategies for moving effective science to widespread practice. This project will address this exact issue by systematically developing a marketing strategy for The Safer Campuses and Communities intervention, a comprehensive, community-based environmental prevention program with proven efficacy in reducing intoxication and alcohol-impaired driving among college students.

The CDC proposes an on-line information collection, which will take place during the spring and fall semester of the 2012-2013 academic years, and will constitute a marketing strategy targeting a national sample of 4-year colleges and universities. The Institutional Data Archive (IDA) on American Higher Education is a dataset consolidated by researchers at the University of California, Riverside for the Colleges & Universities 2000 Project. The dataset includes: earned degrees, enrollments, finances, faculty salaries, technology transfer activities, and institutional rankings over a 40-year period, 1970-2011. IDA also includes census information concerning neighborhoods surrounding colleges and universities.

160 Institutes of Higher Education (IHE) will be sampled from the IDA in order to collect information from key informants and key leaders from the surrounding community. Information gathered from these respondents will be used to: (1) Develop and revise customized marketing and program materials targeting potential campus and community stakeholders; and (2) inform strategies for the marketing plan, which aims to facilitate adoption of the Safer Campuses and Communities intervention by IHEs.

The online survey will be completed by: College Administrators and staff, campus and municipal police; as well as selected community leaders. The IHEs will be contacted via email, with a maximum of 12 participants per IHE for a total of 1800 respondents. All respondent information will be maintained in a secure, electronic format accessible to a limited number of project staff. The amount of time required for a respondent to complete the survey is estimated to be 1 hour.

There are no costs to respondents other than their time. The total estimated annual burden hours are 1,800.

Estimated Annualized Burden Hours
Type of respondent | Form name | Number of respondents | Number of responses per respondent | Average burden per respondent (in hours)
College Administrator | CDC Questionnaire (Attachment C) | 600 | 1 | 1
Police officer | CDC Questionnaire (Attachment C) | 600 | 1 | 1
Community Leader | CDC Questionnaire (Attachment C) | 600 | 1 | 1

Dated: March 28, 2013.
Ron A. Otten,
Director, Office of Scientific Integrity, Office of the Associate Director for Science, Office of the Director, Centers for Disease Control and Prevention.

[FR Doc. 2013-07739 Filed 4-2-13; 8:45 am]

BILLING CODE 4163-18-P